DEPARTMENT OF ENERGY

Federal Energy Regulatory Commission

[Docket No. CP07-208-000]

Rockies Express Pipeline LLC; Notice of Overflight and Limited Site Visit for the Proposed Rockies Express-East Pipeline Project

July 6, 2007.

The staff of the Federal Energy Regulatory Commission (Commission) is issuing this notice to announce the date and location of an overflight and site visit for the proposed Rockies Express-East Pipeline Project. The Commission staff will be preparing an environmental impact statement (EIS) for Rockies Express Pipeline LLC's project in Missouri, Illinois, Indiana, and Ohio. The planned facilities would consist of about 637.8 miles of pipeline and 7 new compressor stations. The EIS will be used by the Commission in its decision-making process to determine whether the project is in the public convenience and necessity.

The helicopter overflight will be held on July 17 and 18, 2007. The July 19, 2007 site visit first focuses on the proposed pipeline crossing location of the following resources in Ohio, as time allows:

• Hamilton Compressor Station site;

• Little Miami Scenic State Park;

• Caesar Creek Wildlife Area;

• Deer Creek State Park;

• Big Darby Creek;

• Perry State Forest;

• Blue Rock State Forest; and

• Barnesville Reservoir.

Anyone interested in participating in the site visit on July 19, 2007, should meet at the Hampton Inn at 2093 S. Hamilton Road in Columbus, Ohio at 7 a.m. Participants must provide their own transportation. Because of the length of the project other site visits will be announced in the future.

This event is posted on the Commission's calendar located at http://www.ferc.gov/EventCalendar/EventsList.aspx along with other related information. For additional information, please contact the Commission's Office of External Affairs at (202) 502-8004.

Kimberly D. Bose,
Secretary.

[FR Doc. E7-13819 Filed 7-17-07; 8:45 am]

BILLING CODE 6717-01-P